DEPARTMENT OF DEFENSE

Department of the Air Force

Draft Environmental Assessment for the Transformation of the 49th Fighter Wing at Holloman Air Force Base, NM

AGENCY: Department of the Air Force, Air Combat Command, Department of Defense

ACTION: Notice of Availability (NOA) to announce that a Draft Environmental Assessment at Holloman Air Force Base, New Mexico for transforming the 49th Fighter Wing through retirement of the F-117A, and T-38A, and beddown of the F-22A is available for review.

SUMMARY: The United States Air Force is issuing this NOA to announce that a Draft Environmental Assessment (EA) addressing the proposed transformation of the 49th Fighter Wing (49 FW) at Holloman Air Force Base (AFB), New Mexico is available for review. The Draft EA addresses the potential environmental consequences of a proposal to transform the combat capability of the 49th Fighter Wing and maximize the use of available infrastructure at Holloman AFB by replacing the retiring F-117A aircraft and T-38A aircraft supporting the F-117A mission with two new F-22A squadrons. The transformation would enhance the low observable, precision weapons system capability of the 49th Fighter Wing. The Draft EA is issued in compliance with the National Environmental Policy Act (NEPA) of 1969 (42 U.S.C. 4321-4347), the Council on Environmental Quality NEPA Regulations (40 CFR 1500-1508); and the Air Force's Environmental Impact Analysis Process (EIAP) (Air Force Instruction 32-7061 as promulgated at 32 CFR 989). The Draft EA analyzes the following actions at Holloman AFB:

1. Retire F-117A and T-38A aircraft currently based at Holloman AFB.

2. Beddown and operate two F-22A aircraft squadrons.

3. Renovate existing facilities and construct new facilities to support the F-22A squadrons.

4. Adjust base manning to reflect F-22A beddown requirements.

5. Conduct F-22A training routinely in airspace within 100 miles of Holloman AFB, to include supersonic operations.

6. Create on Air Traffic Control Assigned Airspace (ATCAA) and modify the Cowboy ATCAA.

7. Expand chaff and flare use in military airspace.

Alternative airspace training and the No Action Alternative are addressed in the Draft EA. The Draft EA is available for review at the following: Online at http://www.a7zpintegratedplanning.org; Alamogordo Public Library, Artesia Public Library, Branigan Memorial Library, Carlsbad Municipal Library, Cloudcroft Library, Dona Ana Community College Library, El Paso Community College-Rio Grande Campus Library and Transmountain Campus Library, El Paso Public Library, Las Cruces Public Library, New Mexico State University Branson Library, New Mexico State University Alamogordo Library, Ruidoso Public Library, Truth or Consequences Public Library, Village of Carrizozo, Holloman AFB Library, National Technical Information Service, and Mescalero Community Library; or you may also request a copy of the Draft EA from Holloman AFB Public Affairs at 505-572-5406.

ADDRESSES: Submit written comments before July 24, 2006 to Ms. Linda DeVine, HQ ACC/A7ZP, c/o SAIC, 22 Enterprise Parkway, Suite 200 Hampton, VA 23666. Public comments on this Draft EA are requested pursuant to the National Environmental Policy Act, 42 U.S.C. 4321, et seq. All written comments received during the comment period will be made available to the public and considered during Final EA preparation. The provision of private address information with your comment is voluntary and will not be released for any other purpose unless required by law. However, this information is used to compile the project mailing list and failure to provide it will result in your name not being included on the mailing list.

FOR FURTHER INFORMATION CONTACT: Ms. Linda DeVine, HQ ACC/A7ZP, c/o SAIC, 22 Enterprise Parkway, Suite 200 Hampton, VA 23666.

Bao-Anh Tring,
Air Force Federal Register Liaison Officer.

[FR Doc. E6-9917 Filed 6-22-06; 8:45 am]

BILLING CODE 5001-06-P